DEPARTMENT OF VETERANS AFFAIRS

Joint Biomedical Laboratory Research and Development and Clinical Science Research and Development Services Scientific Merit Review Board; Notice of Meetings

The Department of Veterans Affairs gives notice under the Public Law 92-463 (Federal Advisory Committee Act) that the subcommittees of the Joint Biomedical Laboratory Research and Development and Clinical Sciences Research and Development Services Scientific Merit Review Board will meet from 8 a.m. to 5 p.m. as indicated below

Subcommittee for | Date(s) | Location
Surgery—A | Nov 8, 2004 | St. Gregory Hotel.
Endocrinology—A | Nov 8-9, 2004 | Governor's House.
Nephrology | Nov 15-16, 2004 | Governor's House.
Neurobiology—E | Nov 18, 2004 | Topaz Hotel.
Gastroenterology | Nov 18-19, 2004 | Hotel Helix.
Cardiovascular Studies—B | Nov 19, 2004 | Washington Marriott.
General Medical Science | Nov 19, 2004 | Washington Marriott.
Neurobiology—D | Nov 19, 2004 | Hotel Washington.
Infectious Diseases—A | Nov 22, 2004 | Hotel Lombardy.
Surgery—B | Nov 22, 2004 | Hotel Lombardy.
Neurobiology—B | Nov 29, 2004 | Washington Marriott.
Immunology—A | Nov 30, 2004 | Hotel Lombardy.
Mental Hlth & Behav Sciences—A | Dec 1, 2004 | Residence Inn.
Mental Hlth & Behav Sciences—B | Dec 2, 2004 | Hotel Lombardy.
Neurobiology—C | Dec 2-3, 2004 | Washington Marriott.
Oncology—B | Dec 2-3, 2004 | Hotel Washington.
Clinical Research Program | Dec 3, 2004 | Washington Marriott.
Endocrinology—B | Dec 3, 2004 | Governor's House.
Cardiovascular Studies—A | Dec 6-7, 2004 | St. Gregory Hotel.
Immunology—B | Dec 6-7, 2004 | Hotel Rouge.
Neurobiology—A | Dec 9-10, 2004 | Holiday Inn Central.
Aging and Clinical Geriatrics | Dec 10, 2004 | Hotel Lombardy.
Oncology—A | Dec 13-14, 2004 | Residence Inn.
Respiration | Dec 13-14, 2004 | Governor's House.
Hematology | Dec 16, 2004 | Hotel Lombardy.
Infectious Diseases—B | Dec 16-17, 2004 | Washington Marriott.
The addresses of the hotels are:
Governor's House, 1615 Rhode Island Avenue, NW., Washington, DC;
Holiday Inn Central, 1501 Rhode Island Avenue, NW., Washington, DC;
Hotel Helix, 1430 Rhode Island Avenue, NW., Washington, DC;
Hotel Lombardy, 2019 Pensylvania Avenue, NW., Washington, DC;
Hotel Rouge, 1315—16th Street, NW., Washington, DC;
Hotel Washington, 515—15th Street, NW., Washington, DC;
Residence Inn (Thomas Circle), 1199 Vermont Avenue, NW., Washington, DC;
St. Gregory Hotel & Suites, 2033 M Street, NW., Washington, DC;
Topaz Hotel, 1733 N Street, NW., Washington, DC;
Washington Marriott, 1221—22nd Street, NW., Washington, DC.

These subcommittee meetings are for the purpose of evaluating the scientific merit of research conducted in each speciality by Department of Veterans Affairs (VA) investigations working in VA Medical Centers and Clinics.

The subcommittee meetings will be open to the public for approximately one hour at the start of each meeting to discuss the general status of the program. The remaining portion of each subcommittee meeting will be closed to the public for the review, discussion, and evaluation of initial and renewal projects.

The closed portion of the meetings involves discussion, examination, reference to staff and consultant critiques of research protocols. During this portion of the subcommittee meetings, discussion and recommendations will deal with qualifications of personnel conducting the studies, the disclosure of which would constitute a clearly unwarranted invasion of personal privacy, as well as research information, the premature disclosure of which could significantly frustrate implementation of proposed agency action regarding such research projects.

As provided by subsection 10(d) of Public Law 92-463, as amended, closing portions of these subcommittee meetings is in accordance with 5 U.S.C., 552b(c)(6) and (9)(B). Those who plan to attend or would like to obtain a copy of minutes of the subcommittee meetings and rosters of the members of the subcommittees should contact LeRoy G. Frey, Ph.D., Chief, Program Review (121F), Department of Veterans Affairs, Washington, DC, (202) 254-0288.

Dated: October 14, 2004.
By Direction of the Secretary.
E. Philip Riggin,
Committee Management Officer.

[FR Doc. 04-24114 Filed 10-27-04; 8:45 am]

BILLING CODE 8320-01-M